SMALL BUSINESS ADMINISTRATION

Small Business Information Security Task Force

AGENCY: U.S. Small Business Administration.

ACTION: Notice of meeting minutes.

SUMMARY: The SBA is issuing this notice to publish meeting minutes for the Small Business Information Security Task Force Meeting.

DATES: 1 p.m., Wednesday, January 12, 2011.

ADDRESSES: The meeting was held via teleconference.

SUPPLEMENTARY INFORMATION: Pursuant to section 507(i)(4)(A) of the Credit Card Accountability Responsibility and Disclosure Act of 2009, SBA submits the meeting minutes for the third meeting of the Small Business Information Security Task Force. Chairman, Mr. Rusty Pickens, called the meeting to order on January 12, 2011 at 1 p.m. Roll call was taken and a quorum was established. The meeting followed the provided agenda topics.

The first item under discussion was bringing the work plan to a final version and to solidify which Task Force members would own the various topic areas. Task force members were reminded that what was contained on the work plan was a first attempt at aligning the subject areas with member expertise.

Mr. Pickens took an action item to refine the scope requirements for the Task Force with specific questions of Identity Theft, Privacy, and Government Contracting information. Additionally, resource and staffing issues to support the work of the Task Force were discussed and Mr. Pickens clarified that there was no confirmation as to if the Task Force had been funded. He took an action item to work with SBA leadership to determine whether funding was available. Suggestions were made of the possibility of the corporate members providing resources such as software and staffing or undertaking fundraising efforts if no formal funding were available. It was reiterated that writers and other staff will be needed to sort and compile the data gathered by the Task Force members. Determining the end deliverable, time frame, and working back from the allocated funding was suggested as a better way to determine resource needs. A high-level budget to accompany the work plan was suggested as a good place to start. Mr. Pickens reminded the group that an informational webinar is scheduled for February 2, 2011 and presented by the PCI Standards Group. In light of the webinar, there will be no official February meeting. The next official meeting date will be determined and distributed in advance via e-mail to the Task Force members.

FOR FURTHER INFORMATION CONTACT: Rusty Pickens, Special Consultant to the Office of the CIO, U.S. Small Business Administration, Rusty.Pickens@sba.gov.

Paul T. Christy,
SBA Chief Information Officer.

[FR Doc. 2011-4422 Filed 2-28-11; 8:45 am]

BILLING CODE 8025-01-P